DEPARTMENT OF HOMELAND SECURITY

Coast Guard

33 CFR Part 165

[Docket No. USCG-2008-0093]

RIN 1625-AA00

Safety Zone; Red Bull Flugtag, Seddon Channel Turning Basin, Tampa, FL

AGENCY: Coast Guard, DHS.

ACTION: Temporary final rule.

SUMMARY: The Coast Guard is establishing a temporary safety zone on the waters of Seddon Channel Turning Basin, Tampa, Florida. This temporary safety zone is intended to restrict non participant vessels from entering the waters in the vicinity of the Flugtag event ramp unless specifically authorized by the Captain of the Port St. Petersburg or a designated representative. This rule is necessary to protect participants and spectators from the hazards associated with the launching of human powered flying craft over the navigable waters of the United States.

DATES: This rule is effective from 9 a.m. until 5 p.m. on July 19, 2008.

ADDRESSES: Documents indicated in this preamble as being available in the docket are part of docket USCG-2008-0093 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the Coast Guard Sector St. Petersburg, Prevention Department between 7:30 a.m. and 3:30 p.m., Monday through Friday, except Federal holidays.

FOR FURTHER INFORMATION CONTACT: BM1 Charles Voss at Coast Guard Sector St. Petersburg, (813) 228-2191 Ext 8307.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because information regarding the event was not provided with sufficient time to publish an NPRM. Publishing an NPRM and delaying its effective date would be contrary to the public interest since immediate action is needed to minimize potential danger to the public during the Red Bull Flugtag event.

For the same reasons, under 5 U.S.C. 553(d)(3), the Coast Guard finds that good cause exists for making this rule effective less than 30 days after publication in the Federal Register. The Coast Guard will issue a broadcast notice to mariners to advise mariners of the restriction.

Background and Purpose

Red Bull Corp. is sponsoring a Flugtag Event on July 19 from the Seddon Channel turning basin. The Flugtag is an event where participants build and then launch homemade human powered flying crafts, from a ramp that is 100-feet long and 30-feet high. The event is scheduled to commence at approximately 11 a.m. local and end at approximately 4 p.m. local. This rule is needed to protect participant and spectator craft in the vicinity of the event from the hazards associated with the launching of human powered flying craft.

Discussion of Rule

The safety zone encompasses the following: All waters from surface to bottom, within the Seddon Channel Turning Basin. The exact location of the ramp and accompanying barges, which is needed to determine the exact location of the safety zone, is not yet known. However, once the final plans are set, the Coast Guard will publish the exact location of the safety zone in the District Seven Local Notice to Mariners. The safety zone will be 250-ft wide and extend out 300-ft. from the end of the ramp. Vessels are prohibited from anchoring, mooring, or transiting within this safety zone, unless authorized by the Captain of the Port St. Petersburg or a designated representative. The safety zone will be effective from 9 a.m. through 5 p.m. on July 19, 2008. Enforcement of the safety zone will commence approximately two hours prior to the event and will conclude approximately one hour after the completion of the event. The two-hour period prior to the event will enable the Coast Guard and/or local law enforcement vessels to conduct a sweep of the zone to ensure that it is clear and to position spectators in the proper locations. An additional 60-minute period has been added at the end of the event for possible delays.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

We expect the economic impact of this rule to be so minimal that a full Regulatory Evaluation under the regulatory policies and procedures of DHS is unnecessary. The rule will only be in effect for a short period of time. Moreover, two transit lanes have been established that will remain clear, to allow the unobstructed transit of vessels through the area.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: The owners or operators of vessels intending to transit the Seddon Channel turning basin in Tampa, Florida. This safety zone will not have a significant economic impact on a substantial number of small entities for the following reasons: This rule will be effective for a limited time; and traffic will be allowed to transit through the area in the designated transit lanes.

Assistance for Small Entities

Under section 213(a) of the Small Business Regulatory Enforcement Fairness Act of 1996 (Pub. L. 104-121), we offer to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD and Department of Homeland Security Management Directive 5100.1, which guides the Coast Guard in complying with the National Environmental Policy Act of 1969 (NEPA) (42 U.S.C. 4321-4370f), and have concluded under the Instruction, that there are no factors in this case that would limit the use of a categorical exclusion under section 2.B.2 of the Instruction. Therefore, this rule is categorically excluded, under figure 2-1, paragraph (34)(g), of the Instruction, from further environmental documentation.

A final environmental analysis checklist and a final categorical exclusion determination are available in the docket where indicated under ADDRESSES.

List of Subjects in 33 CFR Part 165

Harbors, Marine safety, Navigation (water), Reporting and recordkeeping requirements, Security measures, and Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1, 6.04-1, 6.04-6, and 160.5; Pub. L. 107-295, 116 Stat. 2064; Department of Homeland Security Delegation No. 0170.1.

2. A new temporary § 165.T08-0093 is added to read as follows:

§ 165.T08-0093 Safety Zone; Redbull Flugtag, Seddon Channel turning basin, Tampa, Florida.

(a) Regulated area. The Coast Guard is establishing a temporary safety zone on the waters of Seddon Channel turning basin, Tampa, FL. The safety zone will be 250-ft wide and extend out 300-ft from the end of the launch ramp. The exact location of the ramp is not yet known, however the Coast Guard will publish the location in the District Seven Local Notice to Mariners. The zone will be marked on the effective date.

(b) Definitions. The following definition applies to this section:

Designated representative means Coast Guard Patrol Commanders including Coast Guard coxswains, petty officers, and other officers operating Coast Guard vessels, and federal, state, and local officers designated by or assisting the Captain of the Port, St. Petersburg, Florida, in the enforcement of regulated navigation areas and safety and security zones.

(c) Regulations. In accordance with the general regulations in § 165.23 of this part, no person or vessel may anchor, moor, or transit the Regulated Area without permission of the Captain of the Port St. Petersburg, Florida, or a designated representative. The Coast Guard will publish the safety zone in the Local Notice to Mariners and will issue a broadcast notice to mariners to advise mariners of the restriction.

(d) Dates. This rule is in effect from 9 a.m. until 5 p.m. on July 19, 2008.

Dated: June 11, 2008.
J.A. Servidio,
Captain, U.S. Coast Guard, Captain of the Port, St. Petersburg, Florida.

[FR Doc. E8-14506 Filed 6-25-08; 8:45 am]

BILLING CODE 4910-15-P